DEPARTMENT OF HEALTH AND HUMAN SERVICES

Administration for Community Living

Agency Information Collection Activities; Proposed Extension With No Changes of a Currently Approved Collection; Submission for OMB Review; Comment Request; State Program Report

AGENCY: Administration for Community Living, HHS.

ACTION: Notice.

SUMMARY: The Administration for Community Living (ACL) is announcing that the proposed collection of information listed below has been submitted to the Office of Management and Budget (OMB) for review and clearance under the Paperwork Reduction Act of 1995.

DATES: Submit written comments on the collection of information by August 18, 2016.

ADDRESSES: Submit written comments on the collection of information to Elena Fazio at 202-795-7343 or email: elena.fazio@acl.hhs.gov.

FOR FURTHER INFORMATION CONTACT: Elena Fazio at 202-795-7343 or email: elena.fazio@acl.hhs.gov.

SUPPLEMENTARY INFORMATION: In compliance with 44 U.S.C. 3507, ACL has submitted the following proposed collection of information to OMB for review and clearance.

The Older Americans Act (OAA) requires annual program performance reports from States, the District of Columbia, and Territories. In compliance with this OAA provision, ACL developed a State Program Report (SPR) in 1996 as part of its National Aging Program Information System (NAPIS). The SPR collects information about how State Agencies on Aging expend their OAA funds as well as funding from other sources for OAA authorized supportive services. The SPR also collects information on the demographic and functional status of the recipients, and is a key source for ACL performance measurement. This collection is an extension with no changes of the 2013 approved version. The proposed version will be in effect for the FY 2017 reporting year and thereafter. The proposed FY 2017 version may be found on the ACL Web site link entitled Renewal SPR Instrument for 2016 Extension With No Changes available at http://www.aoa.acl.gov/Program_Results/OAA_Performance.aspx. ACL estimates the burden of this collection of information as follows: 2750 hours

Dated: July 12, 2016.
Kathy Greenlee,
Administrator and Assistant Secretary for Aging.

[FR Doc. 2016-16978 Filed 7-18-16; 8:45 am]

BILLING CODE 4154-01-P